DEPARTMENT OF DEFENSE

Office of the Secretary

[Transmittal Nos. 12-31]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-31 with attached transmittal, policy justification, and Sensitivity of Technology.

Dated: June 19, 2012.
Aaron Siegel,
Alternate OSD Federal Register Liaison Officer, Department of Defense.

BILLING CODE 5001-06-P

BILLING CODE 5001-06-C

Transmittal No. 12-31

Notice of Proposed Issuance of Letter of Offer Pursuant to Section 36(b)(1) of the Arms Export Control Act, as Amended

(i) Prospective Purchaser: Norway.

(ii) Total Estimated Value:

Major Defense Equipment * | $270 million
Other | 30 million
Total | 300 million
* As defined in Section 47(6) of the Arms Export Control Act.

(iii) Description and Quantity or Quantities of Articles or Services under Consideration for Purchase: 2 C-130J-30 United States Air Force (USAF) baseline Aircraft, 9 Rolls Royce AE2100D3 Engines (8 installed and 1 spare), countermeasure systems, aircraft modifications, Government Furnished Equipment, communication equipment and support, tools and test equipment, publications and technical documentation, personnel training and training equipment, U.S. Government and contractor engineering, technical and logistics support services, and other related elements of logistical and program support.

(iv) Military Department: Air Force (SAG).

(v) Prior Related Cases, if any: FMS case SAF—$518M—Feb07.

(vi) Sales Commission, Fee, etc., Paid, Offered, or Agreed to be Paid: None.

(vii) Sensitivity of Technology Contained in the Defense Article or Defense Services Proposed to be Sold: See Attached Annex.

(viii) Date Report Delivered to Congress: 7 June 2012.

Policy Justification

Norway—C-130J-30 Aircraft

The Government of Norway has requested a possible sale of 2 C-130J-30 United States Air Force (USAF) baseline Aircraft, 9 Rolls Royce AE2100D3 Engines (8 installed and 1 spare), countermeasure systems, aircraft modifications, Government Furnished Equipment, communication equipment and support, tools and test equipment, publications and technical documentation, personnel training and training equipment, U.S. Government and contractor engineering, technical and logistics support services, and other related elements of logistical and program support. The estimated cost is $300 million.

This proposed sale will contribute to the foreign policy and national security of the United States by helping to improve the security of a NATO ally. Norway has been a strong partner in coalition operations in Libya, Iraq and Afghanistan, and has provided support to the Balkans, the Baltics, and the NATO training mission in Iraq (NTM-I). Norwegian efforts in peacekeeping and humanitarian operations have made a significant impact on regional political and economic stability and have served U.S. national security interests.

Norway intends to use these aircraft in support of NATO-International Security Assistance Force (ISAF) missions in Afghanistan. Norway needs these aircraft to fulfill national and international airlift commitments and requirements, and to increase its capability to provide intra-theater lift for its forces. These aircraft will also increase Norway's ability to assist in disaster relief, humanitarian missions, and military deployments in the future. The Royal Norwegian Air Force, which already operates C-130Js in Norway and in support of operations worldwide, will have no difficulty absorbing these additional aircraft.

The proposed sale of this equipment and support will not alter the basic military balance in the region.

The prime contractor will be Lockheed Martin-Aerospace in Marietta, Georgia. There are no known offset agreements in connection with this potential sale.

Implementation of this proposed sale will not require the assignment of any additional U.S. Government or contractor representatives to Norway.

There will be no adverse impact on U.S. defense readiness as a result of this proposed sale.

Transmittal No. 12-31

Notice of Proposed Issuance of Letter of Offer Pursuant to Section 36(b)(1) of the Arms Export Control Act

Annex

Item No. vii

(vii) Sensitivity of Technology:

1. The AN/ALE-47 Counter-Measures Dispensing System (CMDS) is an integrated, threat-adaptive, software-programmable dispensing system capable of dispensing chaff, flares, and active radio frequency expendables. The threats countered by the CMDS include radar-directed anti-aircraft artillery, radar command-guided missiles, radar homing guided missiles, and infrared guided missiles. The system is internally mounted and may be operated as a stand-alone system or may be integrated with other on-board EW and avionics systems. The AN/ALE-47 uses threat data received over the aircraft interfaces to assess the threat situation and to determine a response. Expendable routines tailored to the immediate aircraft and threat environment may be dispensed using one of four operational modes. The hardware and technical data and documentation provided are Unclassified.

a. The AN/AAR-47 Missile Warning System is a small, lightweight, passive, electro-optic, threat warning device used to detect surface-to-air missiles fired at helicopters and low-flying fixed-wing aircraft and automatically provide countermeasures, as well as audio and visual-sector warning messages to the aircrew. The basic system consists of multiple Optical Sensor Converter (OSC) units, a Computer Processor (CP) and a Control Indicator (CI). The set of OSC units, which normally consist of four, is mounted on the aircraft exterior to provide omni-directional protection. The OSC detects the rocket plume of missiles and sends appropriate signals to the CP for processing. The CP analyzes the data from each OSC and automatically deploys the appropriate countermeasures. The CP also contains comprehensive BIT circuitry. The CI displays the incoming direction of the threat, so that the pilot can take appropriate action. The hardware and technical data and documentation to be provided are Unclassified.

b. The AN/ALR-56M Advanced Radar Warning Receiver continuously detects and intercepts radio frequency signals in certain frequency ranges and analyzes and separates threat signals from non-threat signals. It contributes to full-dimensional protection by providing individual aircraft probability of survival through improved aircrew situational awareness of the radar guided threat environment. The ALR-56M is designed to provide improved performance in a dense signal environment and improved detection of modern threat signals. The hardware and technical data and documentation to be provided are Unclassified.

2. If a technologically advanced adversary were to obtain knowledge of the specific hardware and software elements, the information could be used to develop countermeasures that might reduce weapon system effectiveness or be used in the development of a system with similar or advanced capabilities.

[FR Doc. 2012-15335 Filed 6-22-12; 8:45 am]

BILLING CODE 5001-06-P